DEPARTMENT OF ENERGY

Federal Energy Regulatory Commission

[Docket No. ER07-521-000]

New York Independent System Operator, Inc.; Notice of Technical Conference

August 7, 2007.

Take notice that Commission staff will convene a technical conference in the above-referenced proceeding on Tuesday, September 11, 2007, at 10 a.m. (EDT), in conference room 3M-2A/B at the Federal Energy Regulatory Commission, 888 First Street, NE., Washington, DC 20426.

The Commission's July 27, 2007 order ¹ in this proceeding directed its staff to hold a technical conference to address the issues raised by New York Independent System Operator, Inc.'s (NYISO) February 5, 2007 compliance filing submitted in response to Order Nos. 681 and 681-A.²

¹ New York Independent System Operator, Inc., 120 FERC ¶ 61,099 (2007) (July 27 Order).

² Long-Term Firm Transmission Rights in Organized Electricity Markets, Order No. 681, FERC Stats. & Regs. ¶ 31,226, order on reh'g and clarification, Order No. 681-A, 117 FERC ¶ 61,201 (2006).

Any parties that plan to participate at this technical conference should contact Morris Margolis at (202) 502-8611 no later than 14 days after the issuance of this notice. Parties with similar interests should designate a single spokesperson to address, on their behalf, NYISO's filing, concerns raised in the July 27 Order, and any alternative proposals. A further notice will provide a detailed agenda.

The technical conference will be transcribed. Those interested in obtaining a copy of the transcript immediately for a fee should contact Ace-Federal Reporters, Inc., at 202-347-3700, or 1-800-336-6646. Two weeks after the technical conference, the transcript will be available for free on the Commission's e-library system.

Commission conferences are accessible under section 508 of the Rehabilitation Act of 1973. For accessibility accommodations please send an e-mail to accessibility@ferc.gov or call toll free 1-866-208-3372 (voice) or 202-208-1659 (TTY), or send a Fax to 202-208-2106 with the required accommodations.

For more information about this conference, please contact: Morris Margolis, Office of Energy Markets and Reliability, Federal Energy Regulatory Commission, 888 First Street, NE., Washington, DC 20426, (202) 502-8611, morris.margolis@ferc.gov.

Kimberly D. Bose,
Secretary.

[FR Doc. E7-15796 Filed 8-10-07; 8:45 am]

BILLING CODE 6717-01-P